NUCLEAR REGULATORY COMMISSION

[Docket No. 70-1257]

Siemens Power Corporation; Notice of Consideration of Request for Consent To Transfer of Facility License and Conforming Amendment and Opportunity for Hearing

AGENCY: Nuclear Regulatory Commission.

ACTION: Notice of consideration of request for consent to transfer of facility license and conforming amendment and opportunity for hearing.

SUMMARY: The Nuclear Regulatory Commission (the Commission) is considering the issuance of a letter of consent and an amendment pursuant to Part 70 to Title 10 of the Code of Federal Regulations approving the transfer of Materials License SNM-1227 held by Siemens Power Corporation (“SPC”) as the owner and responsible licensee. The facility is authorized to use Special Nuclear Material (SNM) for the fabrication of nuclear fuel pellets and fuel assemblies and operates in Richland, WA. The transfer would be from Siemens Power Corporation to a new company to be named Framatome ANP Richland Division, Inc.

FOR FURTHER INFORMATION CONTACT: Dan E. Martin, Project Manager, Fuel Cycle Licensing Branch, Division of Fuel Cycle and Safeguards, Office of Nuclear Material Safety and Safeguards, U.S. Nuclear Regulatory Commission, Washington, DC 20555, telephone: (301) 415-7254, e-mail dem1@nrc.gov.

SUPPLEMENTARY INFORMATION: The Nuclear Regulatory Commission (the Commission) is considering the issuance of a letter of consent and an amendment pursuant to Part 70 to Title 10 of the Code of Federal Regulations approving the transfer of Materials License SNM-1227, held by Siemens Power Corporation (“SPC”) as the owner and responsible licensee, to a new company to be named Framatome ANP Richland Division, Inc. The facility is authorized to use Special Nuclear Material (SNM) for the fabrication of nuclear fuel pellets and fuel assemblies and operates in Richland, WA.

The transfer is necessitated by the planned merger of the world-wide nuclear business of Siemens AG, a German Aktiengesellschaft (“Siemens”), including the outstanding shares of stock of SPC, the entity that currently conducts the U.S. nuclear business of Siemens, with the world-wide nuclear business of Framatome S.A., a French société anoyme (“Framatome”) and the creation of a new French company, Framatome Advanced Nuclear Power (“Framatome ANP”). Upon closing of the transaction, SPC will be a wholly-owned subsidiary of Framatome Technologies Group, Inc. (“FTG”), a Delaware corporation and a wholly-owned indirect subsidiary of Framatome ANP, and will operate under the name Framatome ANP Richland Division, Inc. (“Framatome ANP Richland”). Before the closing date of the transaction, FTG will change its name to Framatome ANP, Inc., but FTG is used herein for convenience. The Commission is considering SPC's application and request, dated September 29, 2000, for Commission consent to the transfer of Materials License SNM-1227 to Framatome ANP Richland and the change in ownership of SPC from Siemens Corporation to FTG, effective upon the closing of the transaction, and a license amendment for administrative purposes to reflect the proposed transfer.

According to SPC's application dated September 29, 2000, there will be no changes affecting the existing health and safety programs, qualifications of safety personnel, equipment and facilities, or any other existing license requirements. All the present obligations of SPC under the current license will pass unchanged to Framatome ANP Richland, with the exception of the form of financial assurance for decommissioning. SPC's application includes an unexecuted letter of credit and a standby third-party trust agreement, and a commitment to provide fully executed documents before the closing date.

The proposed license amendment would change the name of the licensee from Siemens Power Corporation to Framatome ANP Richland Division, Inc. for administrative purposes to reflect the proposed transfer.

Pursuant to 10 CFR 70.36, no license granted under the regulations in Part 70 and no right to possess or utilize special nuclear material granted by any license issued pursuant to the regulations in Part 70 shall be transferred, assigned or in any manner disposed of, either voluntarily or involuntarily, directly or indirectly, through transfer of control of any license to any person unless the Commission gives its prior consent in writing. The Commission will approve an application for the transfer of a license if the Commission determines that the proposed transferee is qualified to hold the license, and that the transfer is otherwise consistent with applicable provisions of law, regulations, and orders issued by the Commission pursuant thereto.

Before issuance of the proposed conforming license amendment, the Commission will make the findings required by the Atomic Energy Act of 1954, as amended (the Act), and the Commission's regulations.

The filing of requests for hearing and petitions for leave to intervene, and written comments with regard to the license transfer application, are discussed below.

By November 7, 2000, any person whose interest may be affected by the Commission's action on the application may request a hearing and, if not, the applicant may petition for leave to intervene in a hearing proceeding on the Commission's action. Requests for a hearing and petitions for leave to intervene should be filed in accordance with the Commission's rules of practice set forth in subpart M, “Public Notification, Availability of Documents and Records, Hearing Requests and Procedures for Hearings on License Transfer Applications,” of 10 CFR part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon: Mr. Loren J. Maas, Manager, Regulatory Compliance, Siemens Power Corporation, 2101 Horn Rapids Road, Richland, WA 99352; the General Counsel, U.S. Nuclear Regulatory Commission, Washington, DC 20555 (e-mail address for filings regarding license transfer cases only: OGCLT@NRC.gov); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A Notice granting a hearing will be published in the Federal Register and served on the parties to the hearing.

As an alternative to requests for hearing and petitions to intervene, by (30 days after publication), persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of the Federal Register notice.

For further details with respect to this action, see the application dated September 29, 2000, available for public inspection at the Commission's Public Document Room at One White Flint North, 11555 Rockville Pike, Rockville, MD, and accessible electronically through the ADAMS Public Electronic Reading Room link at the NRC Web site (http://www.nrc.gov).

Dated at Rockville, Maryland this 13th day of October, 2000.
For the Nuclear Regulatory Commission.
Philip Ting,
Chief, Fuel Cycle Licensing Branch, Division of Fuel Cycle Safety and Safeguards, Office of Nuclear Material Safety and Safeguards.

[FR Doc. 00-26887 Filed 10-18-00; 8:45 am]

BILLING CODE 7590-01-P